COMMITTEE FOR THE IMPLEMENTATION OF TEXTILE AGREEMENTS

Request for Public Comment on Commercial Availability Request under the North American Free Trade Agreement (NAFTA)

June 19, 2008.

AGENCY: The Committee for the Implementation of Textile Agreements (CITA).

ACTION: Request for Public Comments concerning a request for modification of the NAFTA rules of origin for thread and yarn of acrylic staple fiber.

SUMMARY: On June 10, 2008, the Government of the United States received a request from the Government of Canada alleging that acrylic staple fiber, classified in subheading 5503.30 of the Harmonized Tariff Schedule of the United States (HTSUS), cannot be supplied by the domestic industry in commercial quantities in a timely manner and requesting that the governments of Mexico and the United States consult to consider whether the North American Free Trade Agreement (NAFTA) rule of origin for thread and yarns classified under HTSUS subheadings 55.08 through 55.11 should be modified to allow the use of non-North American acrylic staple fiber.

The President may proclaim a modification to the NAFTA rules of origin only after reaching an agreement with the other NAFTA countries on the modification. CITA hereby solicits public comments on this request, in particular with regard to whether acrylic staple fiber of HTSUS subheading 5503.30 can be supplied by the domestic industry in commercial quantities in a timely manner. Comments must be submitted by July 25, 2008 to the Chairman, Committee for the Implementation of Textile Agreements, Room 3001, United States Department of Commerce, Washington, D.C. 20230.

FOR FURTHER INFORMATION CONTACT: Martin J. Walsh or Maria K. Dybczak, International Trade Specialists, Office of Textiles and Apparel, U.S. Department of Commerce, (202) 482-2818 and (202) 482-3651, respectively.

SUPPLEMENTARYINFORMATION:

Authority: Section 204 of the Agricultural Act of 1956, as amended (7 USC 1854); Section 202(q) of the North American Free Trade Agreement Implementation Act (19 USC 3332(q)); Executive Order 11651 of March 3, 1972, as amended.

Background

Under the NAFTA, NAFTA countries are required to eliminate customs duties on textile and apparel goods that qualify as originating goods under the NAFTA rules of origin, which are set out in Annex 401 to the NAFTA. The NAFTA provides that the rules of origin for textile and apparel products may be amended through a subsequent agreement by the NAFTA countries. See Section 202(q) of the NAFTA Implementation Act. In consultations regarding such a change, the NAFTA countries are to consider issues of availability of supply of fibers, yarns, or fabrics in the free trade area and whether domestic producers are capable of supplying commercial quantities of the good in a timely manner. The NAFTA Implementation Act provides the President with the authority to proclaim modifications to the NAFTA rules of origin as are necessary to implement an agreement with one or more NAFTA country on such a modification. See section 202(q) of the NAFTA Implementation Act.

On June 10, 2008, the Government of the United States received a request from the Government of Canada alleging that acrylic staple fiber, classified in subheading 5503.30 of the HTSUS, cannot be supplied by the domestic industry in commercial quantities in a timely manner and requesting that the governments of Mexico and the United States consult to consider whether the NAFTA rule of origin for thread and yarns classified under HTSUS subheadings 55.08 through 55.11 should be modified to allow the use of non-North American acrylic staple fiber.

CITA is soliciting public comments regarding this request, particularly with respect to whether acrylic staple fiber can be supplied by the domestic industry in commercial quantities in a timely manner. Comments must be received no later than July 25, 2008. Interested persons are invited to submit six copies of such comments or information to the Chairman, Committee for the Implementation of Textile Agreements, room 3100, U.S. Department of Commerce, 14th and Constitution Avenue, N.W., Washington, DC 20230.

If a comment alleges that acrylic staple fiber can be supplied by the domestic industry in commercial quantities in a timely manner, CITA will closely review any supporting documentation, such as a signed statement by a manufacturer stating that it produces the acrylic staple fiber that is the subject of the request, including the quantities that can be supplied and the time necessary to fill an order, as well as any relevant information regarding past production.

CITA will protect any business confidential information that is marked “business confidential“ from disclosure to the full extent permitted by law. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

R. Matthew Priest,
Chairman, Committee for the Implementation of Textile Agreements.

[FR Doc. E8-14408 Filed 6-24-08; 8:45 am]

BILLING CODE 3510-DS-S